DEPARTMENT OF THE INTERIOR

Bureau of Land Management

[AK-040-00-1410-00; AA-082237]

Realty Action; FLPMA Section 302 Lease, Knik River Road

AGENCY: Bureau of Land Management, Interior.

ACTION: Notice of realty action, lease of public land.

SUMMARY: F.K. (Red) Starr (Applicant) has submitted an application for authorization to construct a driveway and parking lot on public lands to be used in conjunction with his commercial recreational river boat business. This land has been examined and found suitable for lease under the provisions of Section 302 of the Federal Land Policy and Management Act of 1976 and regulations at 43 CFR Part 2920.

The land is described as follows:

Seward Meridian, Alaska

Lot 3, Sec. 14, T. 16 N., R. 3 E.

Containing approximately 2 acres.

The subject lands were withdrawn on February 7, 1964, by Public Land Order (PLO) 3324, for use as public recreation area and preservation of public resource values. The subject lands have also been selected by Eklutna, Inc. under section 12 (a) of the Alaska Native Claims Settlement Act (ANCSA). Lands are scheduled for conveyance as early as FY 2001. Upon conveyance of all right, title, and interest under ANCSA, PLO 6590 then revokes PLO 3324 for lands conveyed. Eklutna, Inc. has concurred with the proposed lease.

SUPPLEMENTARY INFORMATION: The Applicant shall reimburse the United States for reasonable administrative fees and for monitoring of construction, operation, maintenance, and rehabilitation of the land authorized. The reimbursement of cost shall be in accordance with the provisions of 43 CFR 2920.6. The lease will be offered for a term of 5 years or 60 days after Eklutna, Inc. receives title to the land, whichever occurs first. The Applicant will be required to pay rent annually at no less than fair market value.

The Applicant has also applied for a Special Recreation Permit.

DATES: Interested parties may submit comments for a period of 45 days from the publication of this Notice to the Field Manager, Anchorage Field Office, 6881 Abbott Loop Road, Anchorage, Alaska 99507-2599. In the absence of a timely objection, this proposal shall become the final decision of the Department of the Interior.

FOR FURTHER INFORMATION CONTACT: Callie Webber, Anchorage Field Office, Bureau of Land Management, 6881 Abbott Loop Road, Anchorage, Alaska, 99507-2599; (907) 267-1272 or (800) 478-1263.

Dated: June 29, 2000.
Nick Douglas,
Field Manager.

[FR Doc. 00-17368 Filed 7-7-00; 8:45 am]

BILLING CODE 4310-JA-P